ENVIRONMENTAL PROTECTION AGENCY

[WII06-01-7336; FRL-7036-5]

Adequacy Status of the Ozone Attainment Demonstration and Post 1999 Rate of Progress Plan Motor Vehicle Emissions Budgets for the Milwaukee Severe Ozone Area, the Manitowoc Moderate Ozone Area, and the Sheboygan Ozone Maintenance Area for Transportation Conformity Purposes

AGENCY: Environmental Protection Agency (EPA).

ACTION: Notice of adequacy.

SUMMARY: In this notice, EPA is notifying the public that EPA has found that the Motor Vehicle Emissions Budgets (MVEB) in the Wisconsin ozone attainment demonstration and post 1999 Rate of Progress (ROP) plan are adequate for conformity purposes. These MVEBs cover the Milwaukee severe ozone area, the Manitowoc moderate ozone area, and the Sheboygan ozone maintenance area for Volatile Organic Compounds (VOC) and Oxides of Nitrogen (NOX) for 2002, 2005, and 2007. On March 2, 1999, the D.C. Circuit Court ruled that submitted State Implementation Plans (SIPs) cannot be used for conformity determinations until EPA has affirmatively found them adequate. As a result of our finding, Milwaukee, Manitowoc, and Sheboygan areas can use the MVEBs from the submitted ozone attainment demonstration and the submitted post 1999 ROP plan for future conformity determinations. These budgets are effective September 4, 2001.

FOR FURTHER INFORMATION CONTACT: The finding and the response to comments will be available at EPA's conformity website: http://www.epa.gov/otaq/transp/, (once there, click on the “Conformity” button, then look for “Adequacy Review of SIP Submissions for Conformity”).

Michael Leslie, Environmental Engineer, Regulation Development Section (AR-18J), Air Programs Branch, Air and Radiation Division, United States Environmental Protection Agency, Region 5, 77 West Jackson Boulevard, Chicago, Illinois 60604, (312) 353-6680, leslie.michael@epa.gov.

SUPPLEMENTARY INFORMATION:

Background

Today's notice is simply an announcement of a finding that we have already made. EPA Region 5 sent a letter to the Wisconsin Department of Natural Resources on July 25, 2001, stating that the Milwaukee, Manitowoc, and Sheboygan MVEBs in the submitted ozone attainment demonstration and ROP plan for 2002, 2005 and 2007 are adequate. This finding will also be announced on EPA's conformity website: http://www.epa.gov/otaq/transp/, (once there, click on the “Conformity” button, then look for “Adequacy Review of SIP Submissions for Conformity”).

Transportation conformity is required by section 176(c) of the Clean Air Act. EPA's conformity rule requires that transportation plans, programs, and projects conform to state air quality implementation plans and establishes the criteria and procedures for determining whether or not they do. Transportation conformity to a SIP means that transportation activities will not produce new air quality violations, worsen existing violations, or delay timely attainment of the national ambient air quality standards.

The criteria by which we determine whether a SIP's motor vehicle emission budgets are adequate for conformity purposes are outlined in 40 CFR 93.118(e)(4). Please note that an adequacy review is separate from EPA's completeness review, and it also should not be used to prejudge EPA's ultimate approval of the SIP. Even if we find a budget adequate, the EPA may later disapprove the SIP.

We've described our process for determining the adequacy of submitted SIP budgets in guidance (May 14, 1999 memo titled “Conformity Guidance on Implementation of March 2, 1999 Conformity Court Decision”). We followed the guidance in making our adequacy determination.

Authority: 42 U.S.C. 7401-7671q.

Dated: August 6, 2001.
David A. Ullrich,
Acting Regional Administrator, Region 5.

[FR Doc. 01-20788 Filed 8-16-01; 8:45 am]

BILLING CODE 6560-50-M